DEPARTMENT OF HOMELAND SECURITY

Coast Guard

33 CFR Part 117

[Docket No. USCG-2010-0778]

Drawbridge Operation Regulation; Atchafalaya River, Melville, LA

AGENCY: Coast Guard, DHS.

ACTION: Notice of temporary deviation from regulations.

SUMMARY: The Commander, Eighth Coast Guard District, has issued a temporary deviation from the regulation governing the operation of the Union Pacific Railroad vertical lift bridge across the Atchafalaya River, mile 107.4, at Melville, St. Landry and Point Coupee Parishes, Louisiana. The deviation is necessary to perform asbestos abatement work to the draw tender's house. This deviation allows the bridge to open on signal if at least a three hour advance notice is given from September 9, 2010 through October 9, 2010.

DATES: This deviation is effective from 6 a.m. on Thursday, September 9, 2010 through 6 p.m. on Saturday, October 9, 2010.

ADDRESSES: Documents mentioned in this preamble as being available in the docket are part of docket USCG-2010-0778 and are available online by going to http://www.regulations.gov, inserting USCG-2010-0687 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David Frank, Bridge Administration Branch, Coast Guard; telephone 504-671-2128, e-mail Kay.B.Wade@uscg.mil. If you have questions on viewing the docket, call Renee V. Wright, Program Manager, Docket Operations, telephone 202-366-9826.

SUPPLEMENTARY INFORMATION: The Union Pacific Railroad has requested a temporary deviation from the operating schedule for the vertical lift span bridge across the Atchafalaya River, mile 107.4, at Melville, St. Landry and Point Coupee Parishes, Louisiana. The bridge has a vertical clearance of 4 feet above mean high water in the closed-to-navigation position and 54 feet above mean high water in the open-to-navigation position.

In accordance with 33 CFR 117.5, the bridge currently opens on signal for the passage of vessels. This deviation allows the vertical lift span of the bridge to open on signal if at least a three hour advanced notice is given from 6 a.m. Thursday, September 9, 2010 through 6 p.m. on Saturday, October 9, 2010.

The closure is necessary in order to conduct asbestos abatement work on the draw tender's house. This maintenance is essential for the continued operation of the bridge. Notices will be published in the Eighth Coast Guard District Local Notice to Mariners and will be broadcast via the Coast Guard Broadcast Notice to Mariners System.

Navigation on the waterway consists of commercial tugs with tows. There is an alternate waterway route available via the Gulf Intracoastal Waterway (Morgan City to Port Allen Alternate Route). Based on experience and coordination with waterway users, it has been determined that this closure will not have a significant effect on vessels that use the waterway.

In accordance with 33 CFR 117.35(e), the drawbridge must return to its regular operating schedule immediately at the end of the designated time period. This deviation from the operating regulations is authorized under 33 CFR 117.35.

Dated: August 11, 2010.
David M. Frank,
Bridge Administrator.

[FR Doc. 2010-20925 Filed 8-23-10; 8:45 am]

BILLING CODE 9110-04-P